DEPARTMENT OF AGRICULTURE

Federal Crop Insurance Corporation

Notice of Request for Extension of a Currently Approved Information Collection

AGENCY: Federal Crop Insurance Corporation, USDA.

ACTION: Notice and request for comments.

SUMMARY: In accordance with the Paperwork Reduction Act of 1995 (44 U.S.C. Chapter 35) this notice announces the Risk Management Agency's intention to request an extension to a currently approved information collection for the submission of policies, provisions of policies and rates of premium under section 508(h) of the Federal Crop Insurance Act.

This notice announces a public comment period on the information collection requests (ICRs) associated with DATES: Written comments on this notice will be accepted until close of business August 2, 2010.

ADDRESSES: Interested persons are invited to submit comments, titled “Information Collection OMB 0563-0064”, by any of the following methods:

• By Mail to: Director, Product Administration and Standards Division, Risk Management Agency, United States Department of Agriculture, Beacon Facility—Mail Stop 0812, Room 421, PO Box 419205, Kansas City, MO 64141-6205.

• E-Mail: DirectorPDD@rma.usda.gov.

• Federal eRulemaking Portal: http://www.regulations.gov. Follow the instructions for submitting comments.

A copy of each response will be available for public inspection and copying from 7 a.m. to 4:30 p.m., Central Time, Monday through Friday, except holidays, at the above address.

FOR FURTHER INFORMATION CONTACT: Erin Albright, Risk Management Specialist, Product Management, Product Administration and Standards Division, Risk Management Agency, United States Department of Agriculture, Beacon Facility, Stop 0812, Room 421, PO Box 419205, Kansas City, MO 64141-6205, telephone (816) 926-7730.

SUPPLEMENTARY INFORMATION: Title: General Administrative Regulations; Subpart V—Submission of Policies, Provisions of Policies, and Rates of Premium.

OMB Number: 0563-0064.

Expiration Date of Approval: November 30, 2010.

Type of Request: Extension of a currently approved information collection.

Abstract: FCIC is proposing to renew the currently approved information collection, OMB Number 0563-0064. It is currently up for renewal and extension for three years. Subpart V establishes guidelines for the submission of policies or other materials to the Federal Crop Insurance Board of Directors (Board) and identifies the required contents of a submission: The timing, review, and confidentiality requirements; reimbursement of research and development costs, maintenance costs, and use fees; and guidelines for nonreinsured supplemental policies. This data is used to administer the Federal crop insurance program in accordance with the Federal Crop Insurance Act, as amended.

FCIC is requesting the Office of Management and Budget (OMB) to extend the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 472 hours per response.

Respondents/Affected Entities: Parties affected by the information collection requirements included in this Notice is a person (including an approved insurance provider, a college or university, a cooperative or trade association, or any other person) who prepares a submission, or proposes to the Board other crop insurance policies, provisions of policies, or rates of premium.

Estimated annual number of respondents: 556.

Estimated annual number of responses per respondent: 47.

Estimated annual number of responses: 260.

Estimated total annual burden hours on respondents: 122,836.

All responses to this notice will be summarized and included in the request for OMB approval. All comments will also become a matter of public record.

Signed in Washington, DC on May 27, 2010.
William J. Murphy,
Manager, Federal Crop Insurance Corporation.

[FR Doc. 2010-13252 Filed 6-1-10; 8:45 am]

BILLING CODE 3410-08-P